DEPARTMENT OF LABOR

Employment and Training Administration

[TA-W-65,807]

Leech Industries, Inc., Meadville, PA; Notice of Termination of Investigation

Pursuant to Section 221 of the Trade Act of 1974, as amended, an investigation was initiated on April 16, 2009 in response to a petition filed by a company official on behalf of workers at Leech Industries, Inc., Meadville, Pennsylvania. The workers at the subject facility produce plastics, electrical conductors and injection molds.

The petitioner has requested that the petition be withdrawn. Consequently, the investigation has been terminated.

Signed in Washington, DC, this 18th day of May 2009.
Richard Church,
Certifying Officer, Division of Trade Adjustment Assistance.

[FR Doc. E9-15296 Filed 6-26-09; 8:45 am]

BILLING CODE 4510-FN-P